FEDERAL MARITIME COMMISSION

Sunshine Act Meeting

TIME AND DATE: December 9, 2020; 10:00 a.m.

PLACE: This meeting will be held by video-conference only.

STATUS: This meeting will be closed to the public.

MATTERS TO BE CONSIDERED:

1. Briefing by Commissioner Dye on Fact Finding No. 29.

2. Staff Update on General Prohibitions in the Shipping Act.

3. Briefing by Inspector General Jon Hatfield.

CONTACT PERSON FOR MORE INFORMATION: Rachel Dickon, Secretary, (202) 523-5725.

Rachel Dickon,
Secretary.

[FR Doc. 2020-26851 Filed 12-2-20; 4:15 pm]

BILLING CODE 6730-02-P